ENVIRONMENTAL PROTECTION AGENCY

[FRL-11770-01-OA]

Request for Nominations to the EPA Clean Air Scientific Advisory Committee (CASAC)

AGENCY: Environmental Protection Agency (EPA).

ACTION: Notice.

SUMMARY: The U.S. Environmental Protection Agency (EPA) invites nominations of scientific experts to be considered for appointment to the Clean Air Scientific Advisory Committee (CASAC). Appointments will be made by the Administrator.

DATES: Nominations should be submitted in time to arrive no later than April 3, 2024.

FOR FURTHER INFORMATION CONTACT: For further information about the CASAC membership, appointment process, and schedule, please contact Mr. Aaron Yeow, DFO, by telephone at 202-564-2050, or by email at yeow.aaron@epa.gov.

SUPPLEMENTARY INFORMATION:

Background: The CASAC is a chartered Federal Advisory Committee, established pursuant to the Clean Air Act (CAA) Amendments of 1977, codified at 42 U.S.C. 7409(d)(2), to review air quality criteria and National Ambient Air Quality Standards (NAAQS) and recommend to the EPA Administrator any new NAAQS and revisions of existing criteria and standards as may be appropriate. The CASAC shall also: advise the EPA Administrator of areas in which additional knowledge is required to appraise the adequacy and basis of existing, new, or revised NAAQS; describe the research efforts necessary to provide the required information; advise the EPA Administrator on the relative contribution to air pollution concentrations of natural as well as anthropogenic activity; and advise the EPA Administrator of any adverse public health, welfare, social, economic, or energy effects which may result from various strategies for attainment and maintenance of such NAAQS. Members of the CASAC constitute a distinguished body of non-EPA scientists and engineers who are nationally and internationally recognized experts in their respective fields. Members are appointed by the EPA Administrator and serve for a two to three-year term as Special Government Employees who provide independent expert advice to the agency. Additional information is available at https://casac.epa.gov.

Expertise Sought for the CASAC: As required under the CAA section 109(d), the CASAC is composed of seven members, with at least one member of the National Academy of Sciences, one physician, and one person representing state air pollution control agencies. The SAB Staff Office is seeking nominations of experts to serve on the CASAC with expertise in one or more of the following disciplines: air quality, biostatistics, ecology, environmental engineering, epidemiology, exposure assessment, medicine, risk assessment, and toxicology. The SAB Staff Office is especially interested in scientists with expertise described above who have knowledge and experience relating to criteria pollutants (carbon monoxide, lead, nitrogen oxides, ozone, particulate matter, and sulfur oxides).

Selection Criteria for the CASAC: Nominees are selected based on their individual qualifications. Curriculum vitae should reflect the following:

—Demonstrated scientific credentials and disciplinary expertise in relevant fields;

—Willingness to commit time to the committee and demonstrated ability to work constructively and effectively on committees;

—Background and experiences that would help members contribute to the diversity of perspectives on the committee, e.g., geographical, economic, social, cultural, educational backgrounds, professional affiliations, and other considerations;

—For the committee as a whole, consideration of the collective breadth and depth of scientific expertise; and a balance of scientific perspectives is important.

As the committee undertakes specific advisory activities, the SAB Staff Office will consider two additional criteria for each new activity: absence of financial conflicts of interest and absence of an appearance of a loss of impartiality.

How to Submit Nominations: Any interested person or organization may nominate qualified persons to be considered for appointment to this advisory committee. Individuals may self-nominate. Nominations should be submitted in electronic format (preferred) using the online nomination form under the “Nomination of Experts” category at the bottom of the CASAC home page at https://casac.epa.gov. To be considered, all nominations should include the information requested below. EPA values and welcomes diversity. All qualified candidates are encouraged to apply regardless of sex, race, disability or ethnicity.

The following information should be provided on the nomination form: contact information for the person making the nomination; contact information for the nominee; and the disciplinary and specific areas of expertise of the nominee. Nominees will be contacted and asked to provide additional information, including a curriculum vitae and biographical sketch (indicating current position, educational background, research activities, sources of research funding for the last two years, and recent service on other national advisory committees or national professional organizations). To help the agency evaluate the effectiveness of its outreach efforts, please indicate how you learned of this nomination opportunity. Persons having questions about the nomination process or the public comment process described below, or who are unable to submit nominations through the CASAC website, should contact the DFO, as identified above. The DFO will acknowledge receipt of nominations and will invite the nominee to provide any additional information that the nominee feels would be useful in considering the nomination, such as availability to participate as a member of the committee; how the nominee's background, skills and experience would contribute to the diversity of the committee; and any questions the nominee has regarding membership. The names and biosketches of qualified nominees identified by respondents to this Federal Register notice, and additional experts identified by the SAB Staff Office, will be posted in a List of Candidates on the CASAC website at https://casac.epa.gov. Public comments on each List of Candidates will be accepted for 21 days from the date the list is posted. The public will be requested to provide relevant information or other documentation on nominees that the SAB Staff Office should consider in evaluating candidates.

Candidates may be asked to submit the “Confidential Financial Disclosure Form for Special Government Employees Serving on Federal Advisory Committees at the U.S. Environmental Protection Agency” (EPA Form 3110-48). This confidential form is required for Special Government Employees (SGEs) and allows EPA to determine whether there is a statutory conflict between that person's public responsibilities as an SGE and private interests and activities, or the appearance of a loss of impartiality, as defined by Federal regulation. The form may be viewed and downloaded through the “Ethics Requirements for Advisors” link on the CASAC home page at https://casac.epa.gov. This form should not be submitted as part of a nomination.

V. Khanna Johnston,
Deputy Director, EPA Science Advisory Staff Office.

[FR Doc. 2024-04497 Filed 3-1-24; 8:45 am]

BILLING CODE 6560-50-P